DEPARTMENT OF COMMERCE

International Trade Administration

[A-580-841]

Structural Steel Beams from Korea: Extension of Time Limits for Preliminary Results of Antidumping Duty Administrative Review

AGENCY: Import Administration, International Trade Administration, Department of Commerce.

ACTION: Notice of Extension of Time Limits for the Preliminary Results of Antidumping Duty Administrative Review.

SUMMARY: The Department of Commerce (“the Department”) is extending the time limit for the preliminary results of the antidumping duty administrative review of structural steel beams (“SSB”) from Korea.

DATES: May 1, 2002.

FOR FURTHER INFORMATION CONTACT: Brandon Farlander, AD/CVD Enforcement Group III, Office 9, Import Administration, International Trade Administration, U.S. Department of Commerce, 14th Street and Constitution Avenue, N.W., Washington, D.C. 20230; telephone: (202) 482-0182.

SUPPLEMENTARY INFORMATION:

BACKGROUND:

On October 1, 2001, we published a notice of initiation of a review of SSB from Korea covering the period February 11, 2000 through July 31, 2001. See Initiation of Antidumping and Countervailing Duty Administrative Reviews and Requests for Revocation in Part, October 1, 2001 (66 FR 49924). The Department's preliminary results are currently due on May 3, 2002.

EXTENSION OF TIME LIMITS FOR PRELIMINARY RESULTS

Section 751(a)(3)(A) of the Tariff Act of 1930, as amended (the Act) states that if it is not practicable to complete the review within the time specified, the administering authority may extend the 245-day period to issue its preliminary results by up to 120 days. Completion of the preliminary results of this review within the 245-day period is not practicable because the review involves complex affiliation issues, including respondent INI Steel Company's (“INI”) merger with Kangwon and additional issues regarding INI's corporate affiliations.

Therefore, in accordance with section 751(a)(3)(A) of the Act, we are extending the time period for issuing the preliminary results of review by 120 days until August 31, 2002. However, due to a Federal holiday, the signature date will be Tuesday, September 3, 2002. The final results continue to be due 120 days after the publication of the preliminary results.

Dated: April 25, 2002.
Joseph A. Spetrini,
Deputy Assistant Secretary for Import Administration, Group III.

[FR Doc. 02-10770 Filed 4-30-02; 8:45 am]

BILLING CODE 3510-DS-S